DEPARTMENT OF COMMERCE

Bureau of Industry and Security

RIN 0694-XC098

Notice of Report Publication From the Titanium Sponge Working Group

AGENCY: Bureau of Industry and Security, Commerce.

ACTION: Notice of publication of a report.

SUMMARY: The Bureau of Industry and Security (BIS), with this notice, is informing the public that the interagency Titanium Sponge Working Group (TSWG) report and recommendations have been published on the BIS website: https://www.bis.doc.gov/232. On February 27, 2020, the President directed the establishment of the interagency TSWG to address the United States' severe reliance on imported sources of titanium sponge. The TSWG, co-led by the Secretaries of Commerce and Defense as designated by the President's memorandum, began meeting in July 2020 and completed its report and recommendations in 2022. The final report and recommendations were posted on the BIS website in July 2023. As directed by the President's memorandum establishing the TSWG, the report discusses and recommends measures to ensure access to titanium sponge in the United States for use for national defense and critical industries in an emergency.

DATES: The report was finalized in 2022. The report was posted on the BIS website in July 2023.

ADDRESSES: The full report, including the appendices to the report, are available online at https://bis.doc.gov/232.

FOR FURTHER INFORMATION CONTACT: For further information about this report contact the TSWG team at TSWG@bis.doc.gov. For more information about the Office of Technology Evaluation and the Section 232 Investigations, please visit: http://www.bis.doc.gov/232.

Thea D. Rozman Kendler,
Assistant Secretary for Export Administration.

[FR Doc. 2023-16624 Filed 8-3-23; 8:45 am]

BILLING CODE 3510-33-P